DEPARTMENT OF TRANSPORTATION

National Highway Traffic Safety Administration

[Docket No. NHTSA-2006-24964]

Highway Safety Programs; Model Specifications for Devices To Measure Breath Alcohol

AGENCY: National Highway Traffic Safety Administration, DOT.

ACTION: Notice.

SUMMARY: This notice amends the Conforming Products List published in 2004 (69 FR 42237) for instruments that conform to the Model Specifications for Evidential Breath Testing Devices (58 FR 48705).

DATES: Effective Date: June 29, 2006.

FOR FURTHER INFORMATION CONTACT: Dr. Maria E. Vegega, Office of Behavioral Safety Research, Behavioral Research Division (NTI-131), National Highway Traffic Safety Administration, 400 Seventh Street, SW., Washington, DC 20590; Telephone: (202) 366-4892.

SUPPLEMENTARY INFORMATION: On November 5, 1973, the National Highway Traffic Safety Administration (NHTSA) published the Standards for Devices to Measure Breath Alcohol (38 FR 30459). A Qualified Products List of Evidential Breath Measurement Devices comprised of instruments that met this standard was first issued on November 21, 1974 (39 FR 41399).

On December 14, 1984 (49 FR 48854), NHTSA converted this standard to Model Specifications for Evidential Breath Testing Devices (Model Specifications), and published a Conforming Products List (CPL) of instruments that were found to conform to the Model Specifications as Appendix D to that notice (49 FR 48864).

On September 17, 1993, NHTSA published a notice (58 FR 48705) to amend the Model Specifications. The notice changed the alcohol concentration levels at which instruments are evaluated, from 0.000, 0.050, 0.101, and 0.151 BAC, to 0.000, 0.020, 0.040, 0.080, and 0.160 BAC; added a test for the presence of acetone; and expanded the definition of alcohol to include other low molecular weight alcohols including methyl or isopropyl. On July 14, 2004, the most recent amendment to the Conforming Products List (CPL) was published (69 FR 42237), identifying those instruments found to conform with the Model Specifications.

Since the last publication of the CPL, five (5) instruments have been evaluated and found to meet the Model Specifications, as amended on September 17, 1993, for mobile and non-mobile use. In alphabetical order by company, they are:

(1) The “Alcotest 6810” manufactured by Draeger Safety, Inc., Durango, Colorado. This is a hand held device intended for use in stationary or roadside operation and is powered by an internal battery. It uses a fuel cell sensor.

(2) & (3) The “Alcotector BAC-100” and the “Alcotector C2H5OH”, both sold by Guth Laboratories, Inc. of Harrisburg, Pennsylvania. These devices are hand held devices intended for use in stationary or roadside operations. Both devices use fuel cell sensors and are powered by 4 “AA” batteries. The two devices are identical except for their printers. The BAC-100 has an internal printer. The C2H5OH does not have an internal printer, but can use an optional wireless printer.

(4) The “EV 30” manufactured by Lifeloc Technologies, Inc. of Wheat Ridge, Colorado. This device is a hand held device that uses a fuel cell sensor and is powered by an internal battery. It is intended for stationary or roadside operations.

(5) The “DataMaster DMT”, manufactured by National Patent Analytical Systems, Inc. of Mansfield, Ohio. This is a bench-top, AC powered, infrared type breath tester with an analytical filter at 3.44 microns, and interference filters at 3.37 and 3.50 microns.

The CPL has been amended to add the five instruments identified above.

In accordance with the foregoing, the CPL is therefore amended, as set forth below.

Conforming Products List of Evidential Breath Measurement Devices
Manufacturer and Model | Mobile | Nonmobile
Alcohol Countermeasure Systems Corp.
Mississauga, Ontario, Canada:
Alert J3AD* | X | X
Alert J4X.ec | X | X
PBA3000C | X | X
BAC Systems, Inc., Ontario, Canada:
Breath Analysis Computer* | X | X
CAMEC Ltd., North Shields, Tyne and Ware, England:
IR Breath Analyzer* | X | X
CMI, Inc., Owensboro, Kentucky:
Intoxilyzer Model:
200 | X | X
200D | X | X
300 | X | X
400 | X | X
400PA | X | X
1400 | X | X
4011* | X | X
4011A* | X | X
4011AS* | X | X
4011AS-A* | X | X
4011AS-AQ* | X | X
4011 AW* | X | X
4011A27-10100* | X | X
4011A27-10100 with filter* | X | X
5000 | X | X
5000 (w/Cal. Vapor Re-Circ.) | X | X
5000 (w/⅜″ ID Hose option) | X | X
5000CD | X | X
5000CD/FG5 | X | X
5000EN | X | X
5000 (CAL DOJ) | X | X
5000VA | X | X
8000 | X | X
PAC 1200* | X | X
S-D2 | X | X
S-D5 | X | X
Draeger Safety, Inc., Durango, Colorado:
Alcotest Model:
6510 | X | X
6810 | X | X
7010* | X | X
7110* | X | X
7110 MKIII | X | X
7110 MKIII-C | X | X
7410 | X | X
7410 Plus | X | X
Breathalyzer Model:
900* | X | X
900A* | X | X
900BG* | X | X
7410 | X | X
7410-II | X | X
Gall's Inc., Lexington, Kentucky:
Alcohol Detection System—A.D.S. 500 | X | X
Guth Laboratories, Inc., Harrisburg, Pennsylvania:
Alcotector BAC-100 | X | X
Alcotector C2H5OH | X | X
IntoXimeters, Inc., St. Louis, Missouri:
Photo Electric Intoximeter* |  | X
GC IntoXimeter MK II* | X | X
GC IntoXimeter MK IV* | X | X
Auto IntoXimeter* | X | X
IntoXimeter Model:
3000* | X | X
3000 (rev B1)* | X | X
3000 (rev B2)* | X | X
3000 (rev B2A)* | X | X
3000 (rev B2A) w/FM option* | X | X
3000 (Fuel Cell)* | X | X
3000 D* | X | X
3000 DFC* | X | X
Alcomonitor |  | X
Alcomonitor CC | X | X
Alco-Sensor III | X | X
Alco-Sensor III (Enhanced with Serial Numbers above 1,200,000) | X | X
Alco-Sensor IV | X | X
Alco-Sensor IV-XL | X | X
Alco-Sensor AZ | X | X
Alco-Sensor FST | X | X
RBT-AZ | X | X
RBT III | X | X
RBT III-A | X | X
RBT IV | X | X
RBT IV with CEM (cell enhancement module) | X | X
IntoX EC/IR | X | X
IntoX EC/IR II | X | X
Portable IntoX EC/IR | X | X
Komyo Kitagawa, Kogyo, K.K., Japan:
Alcolyzer DPA-2* | X | X
Breath Alcohol Meter PAM 101B* | X | X
Lifeloc Technologies, Inc., (formerly Lifeloc, Inc.), Wheat Ridge, Colorado:
PBA 3000B | X | X
PBA 3000-P* | X | X
PBA 3000C | X | X
Alcohol Data Sensor | X | X
Phoenix | X | X
EV 30 | X | X
FC 10 | X | X
FC 20 | X | X
Lion Laboratories, Ltd., Cardiff, Wales, United Kingdom:
Alcolmeter Model:
300 | X | X
400 | X | X
SD-2* | X | X
EBA* | X | X
Intoxilyzer Model:
200 | X | X
200D | X | X
1400 | X | X
5000 CD/FG5 | X | X
5000 EN | X | X
Luckey Laboratories, San Bernadino, California:
Alco-Analyzer Model:
1000* |  | X
2000* |  | X
National Draeger, Inc., Durango, Colorado:
Alcotest Model:
7010* | X | X
7110* | X | X
7110 MKIII | X | X
7110 MKIII-C | X | X
7410 | X | X
7410 Plus | X | X
Breathalyzer Model:
900* | X | X
900A* | X | X
900BG* | X | X
7410 | X | X
7410-II | X | X
National Patent Analytical Systems, Inc., Mansfield, Ohio:
BAC DataMaster (with or without the Delta-1 accessory) | X | X
BAC Verifier Datamaster (with or without the Delta-1 accessory) | X | X
DataMaster cdm (with or without the Delta-1 accessory) | X | X
DataMaster DMT | X | X
Omicron Systems, Palo Alto, California:
Intoxilyzer Model:
4011* | X | X
4011AW* | X | X
Plus 4 Engineering, Minturn, Colorado:
5000 Plus4* | X | X
Seres, Paris, France:
Alco Master | X | X
Alcopro | X | X
Siemans-Allis, Cherry Hill, New Jersey:
Alcomat* | X | X
Alcomat F* | X | X
Smith and Wesson Electronics, Springfield, Massachusetts:
Breathalyzer Model:
900* | X | X
900A* | X | X
1000* | X | X
2000* | X | X
2000 (non-Humidity Sensor)* | X | X
Sound-Off, Inc., Hudsonville, Michigan:
AlcoData | X | X
Seres Alco Master | X | X
Seres Alcopro | X | X
Stephenson Corp.:
Breathalyzer 900* | X | X
U.S. Alcohol Testing, Inc./Protection Devices, Inc., Rancho Cucamonga, California:
Alco-Analyzer 1000 |  | X
Alco-Analyzer 2000 |  | X
Alco-Analyzer 2100 | X | X
Verax Systems, Inc., Fairport, New York:
BAC Verifier* | X | X
BAC Verifier Datamaster | X | X
BAC Verifier Datamaster II* | X | X
* Instruments marked with an asterisk (*) meet the Model Specifications detailed in 49 FR 48854 (December 14, 1984) (i.e., instruments tested at 0.000, 0.050, 0.101, and 0.151 BAC.) Instruments not marked with an asterisk meet the Model Specifications detailed in 58 FR 48705 (September 17, 1993), and were tested at BACs = 0.000, 0.020, 0.040, 0.080, and 0.160. All instruments that meet the Model Specifications currently in effect (dated September 17, 1993) also meet the Model Specifications for Screening Devices to Measure Alcohol in Bodily Fluids.

(23 U.S.C. 402; delegations of authority at 49 CFR 1.50 and 501.1)

Issued on: June 22, 2006.
Marilena Amoni,
Associate Administrator for Research and Program Development.

[FR Doc. E6-10258 Filed 6-28-06; 8:45 am]

BILLING CODE 4910-59-P